DEPARTMENT OF THE INTERIOR

Fish and Wildlife Service

[FWS-R7-R-2008-N0221; 70133-1265-0000-S3]

Selawik National Wildlife Refuge, Kotzebue, AK

AGENCY: Fish and Wildlife Service, Interior.

ACTION: Notice of intent to revise the comprehensive conservation plan and prepare an environmental assessment; request for comments.

SUMMARY: We, the U.S. Fish and Wildlife Service (Service), intend to prepare a revised Comprehensive Conservation Plan (CCP) and environmental assessment (EA) for Selawik National Wildlife Refuge (Selawik Refuge, Refuge). We furnish this notice in compliance with our CCP policy to advise other agencies, Tribes, and the public of our intentions, and to obtain suggestions and information on the scope of issues to consider in the planning process. We will use local announcements, special mailings, newspaper articles, the Internet, and other media announcements to inform people of opportunities to provide input throughout the planning process. We will hold public meetings in communities within and near Selawik Refuge during preparation of the revised plan.

DATES: Please provide written comments on the scope of the CCP revision and planning process by January 15, 2009.

ADDRESSES: Address comments, questions, and requests for further information to:

Agency Web Site: For more information visit http://alaska.fws.gov/nwr/planning/spol.htm.

E-mail: Selawik_planning@fws.gov. Please include “Selawik Refuge Revised CCP” in the subject line of the message.

Mail: Jeffrey Brooks, Planning Team Leader, U.S. Fish and Wildlife Service, 1011 E. Tudor Road, MS 231, Anchorage, AK 99503-6199.

Fax: Comments may be faxed to (907) 786-3965.

In-Person: Call (907) 786-3357 to make an appointment during regular business hours at the USFWS Regional Office, 1011 E. Tudor Road, Anchorage, AK 99503 or call (907) 442-3799 to make an appointment during regular business hours at Selawik Refuge Headquarters, Kotzebue, AK 99752.

FOR FURTHER INFORMATION CONTACT: Jeffrey Brooks, Planning Team Leader, (907) 786-3839 or Selawik_planning@fws.gov.

SUPPLEMENTARY INFORMATION: With this notice, we initiate our process for developing a revised CCP for the Selawik Refuge, Alaska. We furnish this notice in compliance with our policy to (1) advise other Federal and State agencies, Tribes, and the public of our intention to conduct detailed planning on this refuge and (2) obtain suggestions and information on the scope of issues to be considered in the EA and during the development of the CCP.

Background

We are required to develop a CCP for each national wildlife refuge in Alaska according to direction provided in the Alaska National Interest Lands Conservation Act (ANILCA) (94 Stat. 2371) and the National Wildlife Refuge System Improvement Act of 1997 (16 U.S.C. 668dd-668ee), which amended the National Wildlife Refuge System Administration Act of 1966. The purpose in developing a CCP is to provide refuge managers with long-term guidance for achieving refuge purposes and contributing to the mission of the National Wildlife Refuge System. CCPs are prepared in a manner consistent with sound principles of fish and wildlife management and conservation, visitor management principles, legal mandates, and Service policies. CCPs outline broad management direction for conservation of wildlife habitats, subsistence activities, and identification and management of wildlife-oriented recreation opportunities including, hunting, fishing, wildlife observation and photography, and environmental education and interpretation. We will review and update the CCP at least every 15 years in accordance with the Refuge Improvement Act and the National Environmental Policy Act (NEPA) (42 U.S.C. 4321 et seq.).

Each unit of the National Wildlife Refuge System was established for specific purposes. These purposes guide us as we develop and prioritize management goals and objectives within the National Wildlife Refuge System mission, and as we decide which types of visitor services and public uses will occur on refuges. The planning process used to develop CCPs allows the Service and the public to evaluate management goals and objectives for the refuges. The planning process for refuges is designed to prioritize conservation of important wildlife habitats, while providing for wildlife-oriented recreation opportunities that are compatible with the establishing purposes of each refuge and the mission of the National Wildlife Refuge System.

We will conduct a comprehensive conservation planning process that will provide opportunities for Tribal, State, and local government agencies; organizations; and the public to participate in identifying planning issues through public involvement activities. We request input in the form of issues, concerns, ideas, and suggestions for future management of Selawik Refuge.

We will prepare an EA in accordance with the requirements of the NEPA, as amended; NEPA regulations (40 CFR parts 1500-1508); other appropriate Federal laws and regulations; and Service policies that comply with those laws and regulations.

Refuge Overview

Selawik Refuge straddles the Arctic Circle in northwestern Alaska, encompassing an area approximately the size of Connecticut. The Refuge was established by ANILCA in 1980. When land conveyances under the Alaska Native Claims Settlement Act (approximately 800,000 acres) are completed, 2.1 million acres are expected to remain under federal ownership and management. The Refuge staff manages Selawik Refuge from a headquarters office in Kotzebue, Alaska.

ANILCA requires us to designate areas in refuges according to their respective resources and values and to specify programs and uses within the areas designated. To meet this requirement, the Alaska Region established categories for refuges including Wilderness, Minimal, Moderate, Intensive, and Wild River management. For each management category, we identified appropriate activities, public uses, commercial uses, and facilities. Only the Minimal, Wilderness, and Wild River management categories are applied to Selawik Refuge. The Selawik River and corridor is a designated Wild River. About 11 percent of the Refuge is designated Wilderness. The remainder, and majority of the Refuge's acreage, is managed in the Minimal category.

The Selawik River meanders through the heart of the Refuge, creating a rich succession of habitats, including vast wetlands. The names of both the river and the Refuge originated from the Inupiaq word “siilivik,” which means “place of sheefish.” The sheefish, or innconnu, is a member of the whitefish family that provides an important, and highly desired, food resource for Native subsistence harvesters in this arctic region of Alaska.

Extensive tundra wetlands containing grass and sedge meadows dominate the Refuge landscape, while boreal spruce forests, alder, and willow thickets trace stream and river drainages. Multitudes of migratory waterfowl and shorebirds breed on 24,000 lakes and ponds within the Refuge. Neo-tropical songbirds nest in forests and willow thickets. Moose, wolves, lynx, bears, muskoxen, arctic and red fox, beavers, and muskrats are year-round residents. The Western Arctic caribou herd migrates across Selawik Refuge. In mild winters, small bands of caribou remain on the Refuge to forage in the lichen-covered foothills. Many rivers, sloughs, and lakes support both freshwater and anadromous fisheries, and provide spawning grounds for northern pike, arctic grayling, and various types of whitefish.

Access to the Refuge is possible only by boat, float-or ski-equipped airplane, snowmobile, or dog sled team. Snowmobile trails provide vital links among the Native villages of the region in winter and are usually passable to travelers through the end of April. Several Native Alaskan villages are located within or near the Refuge boundaries including Noorvik, Selawik, Kiana, and Ambler.

The purposes of the Selawik Refuge set forth by ANILCA in 1980 are (i) to conserve fish and wildlife populations and habitats in their natural diversity, including but not limited to, the Western Arctic caribou herd (including participation in scientific studies to better manage caribou), waterfowl, shorebirds and other migratory birds, and salmon and sheefish; (ii) to fulfill the international treaty obligations of the United States with respect to fish and wildlife and their habitats; (iii) to provide, in a manner consistent with the purposes set forth in subparagraphs (i) and (ii), the opportunity for continued subsistence uses by local residents; and (iv) to ensure, to the maximum extent practicable and in a manner consistent with the purposes set forth in paragraph (i), water quality and necessary water quantity within the Refuge.

Preliminary Issues, Concerns, and Opportunities: We have identified preliminary issues, concerns, and opportunities that may be addressed in the CCP. These are (1) management of legal access such as easements and rights-of-way; (2) management of access for community residents and the visiting public; (3) management of hunting and fishing, both subsistence and commercial; (4) concerns about degradation of cultural resources; (5) impacts of off-refuge activities to Refuge resources; and (6) concerns about how managers can proactively address uncertainties such as climate change and related large-scale habitat changes. These and other issues will be explored during the public scoping process. The Refuge planning team, including representatives from State of Alaska and Tribal governments, will determine which key issues will be addressed in the revised CCP.

Public Meetings: We will involve the public in the planning process through open houses, meetings, and multiple requests for comments. We will mail planning updates to individuals, agencies, and organizations on the Selawik Refuge mailing list to keep the public aware of the status of the revised CCP. We will inform the public as to how we use their comments and other input in each stage of the planning process. Scoping meetings are planned to be held in October and November 2008 in Kotzebue and in several local communities within or near the Refuge boundaries. Details of public involvement and participation activities will be announced locally.

Public Availability of Comments

Before including your name, address, phone number, e-mail address, or other personal identifying information with your comment, you should be aware that your entire comment—including your personal identifying information—may be made publicly available at any time. While you may ask us in your comment to withhold your personal identifying information from public review, we cannot guarantee that we will be able to do so.

Dated: September 25, 2008.
Gary Edwards,
Regional Director, U.S. Fish & Wildlife Service, Anchorage, Alaska.

[FR Doc. E8-23118 Filed 9-30-08; 8:45 am]

BILLING CODE 4310-55-P